DEPARTMENT OF COMMERCE

Bureau of Industry and Security

15 CFR Part 744

[Docket No. 190808-0011]

RIN 0694-AH50

Addition of Certain Entities to the Entity List, Revision of Entries on the Entity List, and Removal of Entities From the Entity List

AGENCY: Bureau of Industry and Security, Commerce.

ACTION: Final rule.

SUMMARY: In this rule, the Bureau of Industry and Security (BIS) amends the Export Administration Regulations (EAR) by adding seventeen entities, under a total of nineteen entries, to the Entity List. These seventeen entities have been determined by the U.S. Government to be acting contrary to the national security or foreign policy interests of the United States. These entities will be listed on the Entity List under the destinations of Armenia, Belgium, Canada, the People's Republic of China (China), Georgia, Hong Kong, Malaysia, the Netherlands, Russia, the United Arab Emirates (U.A.E.), and the United Kingdom (U.K.). This rule also modifies a total of twenty-three entries on the Entity List under the destinations of China, Hong Kong, and Russia. Finally, this rule removes a total of three entities under the destinations of China and the U.A.E. The removals are made in connection with requests for removal that BIS received pursuant to the EAR and a review of information provided in those requests.

DATES: This rule is effective August 14, 2019.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (Supplement No. 4 to part 744 of the Export Administration Regulations (EAR)) identifies entities for which there is reasonable cause to believe, based on specific and articulable facts, have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

Under § 744.11(b) (Criteria for revising the Entity List) of the EAR, entities for which there is reasonable cause to believe, based on specific and articulable facts, have been involved, are involved, or pose a significant risk of being or becoming involved in activities that are contrary to the national security or foreign policy interests of the United States, and those acting on behalf of such persons, may be added to the Entity List.

This rule implements the decision of the ERC to add seventeen entities, under a total of nineteen entries, to the Entity List; one of these entities is being added under three entries. The seventeen entities being added are located in Armenia, Belgium, Canada, China, Georgia, Hong Kong, Malaysia, the Netherlands, Russia, the U.A.E. and the U.K. The seventeen entities are being added based on § 744.11 (License requirements that apply to entities acting contrary to the national security or foreign policy interests of the United States) of the EAR. The nineteen entries consist of two entries located in Armenia, two entries located in Belgium, one entry located in Canada, four entries located in China, one entry located in Georgia, one entry located in Hong Kong, one entry located in Malaysia, one entry located in the Netherlands, one entry located in Russia, four entries located in the U.A.E., and one entry located in the U.K.

The ERC reviewed and applied § 744.11(b) in making the determination to add these seventeen entities to the Entity List. Under that section, entities for which there is reasonable cause to believe, based on specific and articulable facts, have been involved, are involved, or pose a significant risk of being or becoming involved in activities that are contrary to the national security or foreign policy interests of the United States, along with those acting on behalf of such persons, may be added to the Entity List. Paragraphs (b)(1) through (b)(5) of § 744.11 provide an illustrative list of activities that could be contrary to the national security or foreign policy interests of the United States. For each of the seventeen entities described below, the ERC made the requisite determination under the standard set forth in § 744.11(b).

Pursuant to § 744.11(b), the ERC determined to add Al Merikh General Trading, an Emirati entity, to the Entity List, because Al Merikh General Trading has transshipped U.S.-origin items to sanctioned destinations without the required authorizations; to add four Chinese entities, China General Nuclear Power Group, China General Nuclear Power Corporation (CGNPC), China Nuclear Power Technology Research Institute Co. Ltd., and Suzhou Nuclear Power Research Institute Co. Ltd., because each of these four Chinese entities has engaged in or enabled efforts to acquire advanced U.S. nuclear technology and material for diversion to military uses in China; and to add Corad Technology Limited, a Hong Kong entity, because Corad Technology Limited has been involved in the sale of U.S. technology to Iran's military and space programs, to front companies of the Democratic People's Republic of Korea (North Korea), and to subordinate entities of China's Government and its defense industry. The ERC also determined to add two Belgian entities, Industrial Metals and Commodities and Nicolas Kaiga; three Emirati entities, Emirates Alloys, Super Alloys, and Saeed Valadbaigi; one Malaysian entity, NBH Industries; and one Georgian entity, Georgia Petrochemical and Aviatech, to the Entity List, because each of these seven entities unlawfully attempted to procure and divert export-controlled aluminum tubing via Malaysia to Iran. Nicolas Kaiga also has been added under entries for the Netherlands and the U.K., in addition to Belgium.

Pursuant to § 744.11(b), the ERC also determined to add Kelvo Inc., a Canadian entity, to the Entity List, because the sole proprietor of Kelvo Inc. engaged in unlawful reexports from Canada to Russia and Armenia of items subject to the EAR and controlled on the Commerce Control List (CCL) for national security reasons; to add two Armenian entities, Markel Closed Joint Stock Company (Markel CJSC) and Yerevan Telecommunications Research Institute (YETRI) Closed Joint Stock Company (CJSC), because YETRI CJSC has obtained CCL items that were reexported without the required BIS licenses, and the person who is both Executive Director of YETRI CJSC and President of Markel CJSC has been engaged in a business relationship with a sanctioned Iranian organization; and to add one Russian entity Joint Stock Company Kaluga Scientific Research Institute of Radio Engineering (KNIRTI), because KNIRTI is a majority-owned subsidiary of the sanctioned Russian entity Joint-Stock Company Concern Radio-Electronic Technologies (a.k.a., KRET), and is subject to existing designations by the Department of the Treasury, pursuant to Executive Order 13661.

Pursuant to § 744.11(b), the ERC determined that the conduct of these seventeen entities raises sufficient concerns that prior review of exports, reexports, or transfers (in-country) of all items subject to the EAR involving these entities, and the possible imposition of license conditions or license denials on shipments to the persons, will enhance BIS's ability to prevent violations of the EAR.

For the seventeen entities added to the Entity List in this final rule, BIS imposes a license requirement for all items subject to the EAR and a license review policy of presumption of denial. The license requirement applies to any transaction in which items subject to the EAR are to be exported, reexported, or transferred (in-country) to any of these entities. The acronym “a.k.a.” (also known as) is used in entries on the Entity List to identify aliases, thereby assisting exporters, reexporters, and transferors in identifying entities on the Entity List.

This final rule adds the following seventeen entities, under a total of nineteen entries, to the Entity List:

Armenia

• Markel Closed Joint Stock Company (Markel CJSC); and

• Yerevan Telecommunications Research Institute (YETRI) Closed Joint Stock Company (CJSC).

Belgium

• Industrial Metals and Commodities; and

• Nicolas Kaiga, including one alias (Nicholas Kaiga).

Canada

• Kelvo Inc.

China

• China General Nuclear Power Corporation (CGNPC), including one alias (China Guangdong Nuclear Power Corporation);

• China General Nuclear Power Group;

• China Nuclear Power Technology Research Institute Co. Ltd.; and

• Suzhou Nuclear Power Research Institute Co. Ltd.

Georgia

• Georgia Petrochemical and Aviatech.

Hong Kong

• Corad Technology Limited, including one alias (Corad Technology (China) Limited).

Malaysia

• NBH Industries.

Netherlands

• Nicolas Kaiga, including one alias (Nicholas Kaiga).

Russia

• Joint Stock Company Kaluga Scientific Research Institute of Radio Engineering (KNIRTI).

United Arab Emirates

• Al Merikh General Trading;

• Emirates Alloys, including two aliases (Emirates Alloys General Trading LLC; and Emirates Aero);

• Super Alloys; and

• Saeed Valadbaigi, including two aliases (Saeed Valad; and Saeed Baigi).

United Kingdom

• Nicolas Kaiga, including one alias (Nicholas Kaiga).

Modification to the Entity List

This final rule implements the decision of the ERC to modify twenty-three existing entries. The modifications consist of revising seventeen entries under China, four entries under Hong Kong, and two entries under Russia. The modifications to the entities under China consist of revising five entries, and, to reflect changes to ten separate entities, removing the entries for these ten entities and adding in their place twelve new entries. The final rule adds twelve entries under the destination of China as part of the modifications of these ten entries because one entry that is being modified is being removed and in its place three separate entities are being added to reflect a reorganization that occurred at that entity whereby the single entity has now become three distinct entities.

The modifications to twenty-three existing entries is described further as follows:

This final rule implements the decision of the ERC to modify one existing entry, First Department, Chinese Academy of Launch Vehicle Technology (CALT), which was first added to the Entity List under the destination of China on May 14, 2001 (66 FR 24266) and most recently modified on September 9, 2012 (77 FR 58006). BIS is modifying the existing entry by updating names (including entity name and aliases) and addresses for this entry. This rule changes the existing entity name to China Aerospace Science and Technology Corporation (CASC) 1st Academy First Design Department.

This final rule implements the decision of the ERC to modify one existing entry, Beijing Aerospace Automatic Control Institute (BICD), which was first added to the Entity List under the destination of China on May 28, 1999 (64 FR 28909) and most recently modified on September 20, 2016 (81 FR 64696). BIS is modifying the existing entry by updating names (including the entity name and aliases) for this entry. This rule changes the existing entity name to China Aerospace Science and Technology Corporation (CASC) 1st Academy 12 Research Institute.

This final rule implements the decision of the ERC to modify one existing entry, 13 Institute, China Academy of Launch Vehicle Technology (CALT), which was first added to the Entity List under the destination of China on May 14, 2001 (66 FR 24265) and most recently modified on December 17, 2010 (75 FR 78877). BIS is modifying the existing entry by updating names (including entity name and aliases) and addresses and correcting the organizational structure for this entity, which is now a part of the CASC 9th Academy. This rule changes the existing entity name to China Aerospace Science and Technology Corporation (CASC) 9th Academy 13 Research Institute.

This final rule implements the decision of the ERC to modify one existing entry, Beijing Institute of Structure and Environmental Engineering (BISE), which was first added to the Entity List under the destination of China on May 28, 1999 (64 FR 28909) and most recently modified on September 20, 2016 (81 FR 64696). BIS is modifying the existing entry by updating names (including the entity name and aliases) for this entity. This rule changes the existing entity name to China Aerospace Science and Technology Corporation (CASC) 1st Academy 702 Research Institute.

This final rule implements the decision of the ERC to modify one existing entry, Beijing Power Machinery Institute, which was first added to the Entity List under the destination of China on May 14, 2001 (66 FR 24266) and most recently modified on December 17, 2010 (75 FR 78877). BIS is modifying the existing entry by updating names (including the entity name and aliases) and addresses for this entity. This rule changes the existing entity name to China Aerospace Science and Industry Corporation (CASIC) 3rd Academy, 31 Research Institute.

This final rule implements the decision of the ERC to modify one existing entry, Xiangdong Machinery Factory, within the China Aerospace Science and Industry Corps Third Academy (CASIC), which was first added to the Entity List under the destination of China on May 14, 2001 (66 FR 24267) and most recently modified on September 19, 2012 (77 FR 58006). BIS is modifying the existing entry by updating names (including the entity name and aliases) and addresses. These modifications also update the entry to reflect the organizational structure for Xiangdong Machinery Factory, within the China Aerospace Science and Industry Corp's Third Academy (CASIC). This rule changes the existing entry to reflect that Xiangdong Machinery Factory is three separate entities, to be listed as follows:

• China Aerospace Science and Industry Corporation (CASIC) 3rd Academy;

• China Aerospace Science and Industry Corporation (CASIC) 3rd Academy's 159 Factory; and

• China Aerospace Science and Industry Corporation (CASIC) 3rd Academy's 239 Factory.

This final rule implements the decision of the ERC to modify one existing entry, 33 Institute, which was first added to the Entity List under the destination of China on May 14, 2001 (66 FR 24266) and most recently modified on September 20, 2016 (81 FR 64696). BIS is modifying the existing entry for 33 Institute by updating names (including the entity name and aliases) and addresses for this entity. This rule changes the existing entity name to China Aerospace Science and Industry Corporation (CASIC) 3rd Academy, 33 Research Institute.

This final rule implements the decision of the ERC to modify one existing entry, 35 Institute, which was first added to the Entity List under the destination of China on May 14, 2001 (66 FR 24266) and most recently modified on September 20, 2016 (81 FR 64696). BIS is modifying the existing entry for 35 Institute by updating names (including the entity name and aliases) and addresses for this entity. This rule changes the existing entity name to China Aerospace Science and Industry Corporation (CASIC) 3rd Academy, 35 Research Institute.

This final rule implements the decision of the ERC to modify one existing entry, Shanghai Academy of Spaceflight Technology (SAST), which was first added to the Entity List under the destination of China on May 28, 1999 (64 FR 28909) and most recently modified on September 20, 2016 (81 FR 64696). BIS is modifying the existing entry for Shanghai Academy of Spaceflight Technology by updating the names (including the entity name and aliases) and addresses for this entry. This rule changes the existing entity name to China Aerospace Science and Technology Corporation (CASC) 8th Academy.

This final rule implements the decision of the ERC to modify one existing entry, Shanghai Institute of Space Power Sources, which was first added to the Entity List under the destination of China on May 28, 1999 (64 FR 28909) and most recently modified on September 20, 2016 (81 FR 64696). BIS is modifying the existing entry for Shanghai Institute of Space Power Sources by updating names (including the entity name and aliases) and addresses for this entity. This rule changes the existing entity name to China Aerospace Science and Technology Corporation (CASC) 8th Academy 811 Research Institute.

This final rule implements the decision of the ERC to modify four existing entries, Chen Qu, Edward Fan, Sharon Yang, and TanWei, which were added to the Entity List under the destination of China on March 21, 2016 (81 FR 14958). These four persons had the same address as Jereh International and Yantai Jereh Oilfield Services, which are removed from the Entity List in this rule. BIS is modifying the existing entries Chen Qu, Edward Fan, Sharon Yang, and TanWei by revising the addresses to provide new addresses associated with each of these four persons that are being retained on the Entity List.

This final rule implements the decision of the ERC to modify one existing entry, Northwestern Polytechnical University, which was first added to the Entity List under the destination of China on May 14, 2001 (66 FR 24266) and most recently modified on September 20, 2016 (81 FR 64696). BIS is modifying the existing entry for Northwestern Polytechnical University by adding a reference to see § 744.11 of the EAR in the License Requirement. BIS is also modifying the existing entry by changing the License Review Policy to a presumption of denial.

This final rule implements the decision of the ERC to modify four existing entries, Calvin Law, CLC Holdings Limited, LHI Technology (H.K.) Company Limited, and ZM International Company Ltd., which were added to the Entity List under the destination of Hong Kong on September 4, 2018 (83 FR 44824). BIS is modifying these existing entries by revising the addresses to add “N.T.” before Hong Kong.

This final rule implements the decision of the ERC to modify one existing entry, Obinsk Research and Production Enterprise (ORPE), which was added to the Entity List under the destination of Russia on September 26, 2018 (83 FR 48534). BIS is modifying the existing entry to correct a spelling error by inserting an “n” after “b,” so it reads as “Obninsk” in the three places where the term is referenced in this entry.

This final rule implements the decision of the ERC to modify one existing entry, Limited Liability Company Concord Management and Consulting, which was added to the Entity List under the destination of Russia on June 22, 2017 (82 FR 28408). BIS is modifying the existing entry of Limited Liability Company Concord Management and Consulting to insert text for the License Requirement, License Review Policy, and Federal Register citation columns that was inadvertently not included in the final rule that originally added this entity.

Removals From the Entity List

This rule implements a decision of the ERC to remove Jereh International and Yantai Jereh Oilfield Services Group Co., Ltd., two entities located in China, from the Entity List on the basis of a removal request. The entries for Jereh International and Yantai Jereh Oilfield Services Group Co., Ltd. were added to the Entity List on March 21, 2016 (81 FR 14958). This rule also implements a decision of the ERC to remove Deira General Marketing, an entity located in the U.A.E., from the Entity List on the basis of a removal request. The entry for Deira General Marketing was added to the Entity List on January 26, 2018 (83 FR 3580). The ERC decided to remove these three entries based on information BIS received pursuant to § 744.16 of the EAR and the review the ERC conducted in accordance with procedures described in Supplement No. 5 to part 744.

This final rule implements the decision to remove the following three entities, consisting of two located in China and one in the U.A.E., from the Entity List:

China

• Jereh International; and

• Yantai Jereh Oilfield Services Group Co., Ltd.

United Arab Emirates

• Deira General Marketing.

Savings Clause

Shipments of items removed from eligibility for a License Exception or for export or reexport without a license (NLR) as a result of this regulatory action that were en route aboard a carrier to a port of export or reexport, on August 14, 2019, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA). ECRA, as amended (50 U.S.C. 4801-4852), provides the legal basis for BIS's principal authorities and serves as the authority under which BIS issues this rule. As set forth in Sec. 1768 of ECRA, all delegations, rules, regulations, orders, determinations, licenses, or other forms of administrative action that have been made, issued, conducted, or allowed to become effective under the Export Administration Act of 1979 (50 U.S.C. 4601 et seq.) (as in effect prior to August 13, 2018 and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 8, 2018, 83 FR 39871 (August 13, 2018)), or the Export Administration Regulations, and were in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 42.5 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to Section 1762 of the Export Control Reform Act of 2018 (50 U.S.C. 4801-4852), which was included in the John S. McCain National Defense Authorization Act for Fiscal Year 2019, this action is exempt from the Administrative Procedure Act (5 U.S.C. 553) requirements for notice of proposed rulemaking, opportunity for public participation, and delay in effective date.

5. This action involves the removal of three entities from the Entity List. Removals from the Entity List involve interagency deliberation and result from review of public and non-public sources, including, where applicable, sensitive law enforcement information and classified information, and the measurement of such information against the Entity List removal criteria. This information is reviewed according to the procedures and criteria for evaluating removal requests from the Entity List, as set forth in 15 CFR 744.11, 15 CFR 744.16, and 15 CFR part 744, Supplement No. 5. For reasons of national security, BIS is not at liberty to provide to the public detailed information on which the ERC relies to make the decisions to remove these entities. In addition, the information included in a removal request is exchanged between the applicant and the ERC, which by law (§ 1761(h) of the ECRA), BIS is restricted from sharing with the public. Moreover, removal requests from the Entity List may contain confidential business information that is necessary for the extensive review conducted by the ERC.

6. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—[AMENDED]

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2018, 83 FR 39871 (August 13, 2018); Notice of September 19, 2018, 83 FR 47799 (September 20, 2018); Notice of November 8, 2018, 83 FR 56253 (November 9, 2018); Notice of January 16, 2019, 84 FR 127 (January 18, 2019).

2. Supplement No. 4 to part 744 is amended:

a. Under Armenia, by adding in alphabetical order, two Armenian entities, “Markel Closed Joint Stock Company (Markel CJSC),” and “Yerevan Telecommunications Research Institute (YETRI) Closed Joint Stock Company (CJSC)”;

b. Under Belgium, by adding in alphabetical order, two Belgian entities, “Industrial Metals and Commodities” and “Nicolas Kaiga;”

c. Under Canada, by adding in alphabetical order, one Canadian entity, “Kelvo Inc.”;

d. Under China,

i. By adding in alphabetical order, sixteen Chinese entities, “China Aerospace Science and Industry Corporation (CASIC) 3rd Academy,” “China Aerospace Science and Industry Corporation (CASIC) 3rd Academy's 159 Factory,” “China Aerospace Science and Industry Corporation (CASIC) 3rd Academy's 239 Factory,” “China Aerospace Science and Industry Corporation (CASIC) 3rd Academy, 31 Research Institute,” “China Aerospace Science and Industry Corporation (CASIC) 3rd Academy, 33 Research Institute,” “China Aerospace Science and Industry Corporation (CASIC) 3rd Academy, 35 Research Institute,” “China Aerospace Science and Technology Corporation (CASC) 1st Academy 12 Research Institute,” “China Aerospace Science and Technology Corporation (CASC) 1st Academy 702 Research Institute,” “China Aerospace Science and Technology Corporation (CASC) 1st Academy First Design Department,” “China Aerospace Science and Technology Corporation (CASC) 8th Academy,” “China Aerospace Science and Technology Corporation (CASC) 8th Academy 811 Research Institute,” “China Aerospace Science and Technology Corporation (CASC) 9th Academy 13 Research Institute,” “China General Nuclear Power Corporation (CGNPC),” “China General Nuclear Power Group,” “China Nuclear Power Technology Research Institute Co. Ltd.,” and “Suzhou Nuclear Power Research Institute Co. Ltd.”;

ii. By removing twelve Chinese entities, “13 Institute, China Academy of Launch Vehicle Technology (CALT),” “33 Institute,” “35 Institute,” “Beijing Aerospace Automatic Control Institute (BICD),” “Beijing Institute of Structure and Environmental Engineering (BISE),” “Beijing Power Machinery Institute,” “First Department, Chinese Academy of Launch Vehicle Technology (CALT),” “Jereh International,” “Shanghai Academy of Spaceflight Technology (SAST),” “Shanghai Institute of Space Power Sources,” “Xiangdong Machinery Factory, within the China Aerospace Science and Industry Corporation's (CASIC) Third Academy,” and “Yantai Jereh Oilfield Services Group Co., Ltd.”; and

iii. By revising five Chinese entities, “Chen Qu,” “Edward Fan,” “Northwestern Polytechnical University,” “Sharon Yang,” and “TanWei”;

e. Under Georgia, by adding in alphabetical order, one Georgian entity, “Georgia Petrochemical and Aviatech”

f. Under Hong Kong,

i. By adding in alphabetical order, one Hong Kong entity, “Corad Technology Limited,” and

ii. By revising four Hong Kong entities, “Calvin Law,” “CLC Holdings Limited,” “LHI Technology (H.K.) Company Limited,” and “ZM International Company Ltd.”;

g. Under Malaysia, by adding one Malaysian entity, “NBH Industries;”

h. Under the Netherlands, by adding in alphabetical order, one Dutch entity, “Nicolas Kaiga”.

i. Under Russia,

i. By adding in alphabetical order, one Russian entity, “Joint Stock Company Kaluga Scientific Research Institute of Radio Engineering (KNIRTI)”; and

ii. By revising two Russian entities “Limited Liability Company Concord Management and Consulting,” and “Obninsk Research and Production Enterprise (ORPE)”; and

j. Under the United Arab Emirates,

i. By adding in alphabetical order, four Emirati entities, “Al Merikh General Trading,” “Emirates Alloys,” “Super Alloys,” and “Saeed Valadbaigi” and

ii. By removing one Emirati entity, “Deira General Marketing”.

k. Under the United Kingdom, by adding in alphabetical order, one British entity, “Nicolas Kaiga.”

The additions and revisions read as follows:

Supplement No. 4 to Part 744—Entity List

* * * * *

Country | Entity | License requirement | License review policy | Federal Register citation
* * * * * * *
ARMENIA | * * * * * *
| Markel Closed Joint Stock Company (Markel CJSC), 17, Apt 31, Mashtoc Avenue, Yerevan, Armenia, 375002; and 26 Dzorapi Street, Yerevan, 0015, Armenia | For all items subject to the EAR. (See § 744.11 of the EAR.) | Presumption of denial | 84 FR [INSERT FR PAGE NUMBER, 8/14/19.
| * * * * * *
| Yerevan Telecommunications Research Institute (YETRI) Closed Joint Stock Company (CJSC), 26, Dzorapy Street, 0015, Yerevan, Armenia | For all items subject to the EAR. (See § 744.11 of the EAR.) | Presumption of denial | 84 FR [INSERT FR PAGE NUMBER, 8/14/19.
* * * * * * *
BELGIUM | * * * * * *
| Industrial Metals and Commodities, Goffarstraad 16, B-1050, Brussels, Belgium | For all items subject to the EAR. (See § 744.11 of the EAR.) | Presumption of denial | 84 FR [INSERT FR PAGE NUMBER, 8/14/19.
| Nicolas Kaiga, a.k.a., the following one alias: Nicholas Kaiga Goffarstraad 16, B-1050, Brussels, Belgium. (See alternate addresses under Netherlands and United Kingdom) | For all items subject to the EAR. (See § 744.11 of the EAR.) | Presumption of denial | 84 FR [INSERT FR PAGE NUMBER, 8/14/19.
* * * * * * *
CANADA | * * * * * *
| Kelvo Inc 6600 21st Avenue, Laval, Quebec H7R3G8, Canada; and 7169 19th Avenue, Laval, Quebec H7R3E5, Canada | For all items subject to the EAR. (See § 744.11 of the EAR.) | Presumption of denial | 84 FR [INSERT FR PAGE NUMBER, 8/14/19.
| * * * * * *
* * * * * * *
CHINA, PEOPLE'S REPUBLIC OF | * * * * * *
| Chen Qu, a.k.a., the following one alias:—Chen Choo No. 4 Nanhuan Road, Jinzhou City, Hubei Province, China | For all items subject to the EAR. (See § 744.11 of the EAR) | Presumption of denial | 81 FR 14958, 3/21/16. 84 FR [INSERT FR PAGE NUMBER, 8/14/19.
| * * * * * *
| China Aerospace Science and Industry Corporation (CASIC) 3rd Academy, a.k.a., the following three aliases: —China Haiying Electro-Mechanical Technology Academy (CHETA); —HiWING Mechanical & Electrical Technology Corporation; and —Beijing HY Electronic Tech Co No. 1 Haiying Rd, Fengtai Technology District, Tower 1, 7/F, Beijing; and F/5 #5 BLDG Hangtian Haiying Tech No 1 Kaiying Rd, Feng Tai District, Beijing 100089; and No. 11, Hepingli East Street, Dongcheng District, Beijing; and P.O. Box 7200-80, Beijing 100074 | For all items subject to the EAR | See § 744.3(d) of this part | 66 FR 24267, 5/14/01. 75 FR 78883, 12/17/10. 77 FR 58006, 9/19/12. 84 FR [INSERT FR PAGE NUMBER, 8/14/19.
| China Aerospace Science and Industry Corporation (CASIC) 3rd Academy's 159 Factory, a.k.a., the following two aliases: —159th Factory; and —Beijing Xinghang Electromechanical Equipment Factory No. 9, DongWangzuo North Road, Yungang, Fengtai District, Beijing, 100074 | For all items subject to the EAR | See § 744.3(d) of this part | 66 FR 24267, 5/14/01. 75 FR 78883, 12/17/10. 77 FR 58006, 9/19/12. 84 FR [INSERT FR PAGE NUMBER, 8/14/19.
| China Aerospace Science and Industry Corporation (CASIC) 3rd Academy's 239 Factory, a.k.a., the following two aliases: —239th Factory; and —Beijing Hangxing Machinery Manufacturing Corporation., Ltd No. 11 Hepingli East Street, Dongcheng District, Beijing 100013 | For all items subject to the EAR | See § 744.3(d) of this part | 66 FR 24267, 5/14/01. 75 FR 78883, 12/17/10. 77 FR 58006, 9/19/12. 84 FR [INSERT FR PAGE NUMBER, 8/14/19.
| China Aerospace Science and Industry Corporation (CASIC) 3rd Academy, 31 Research Institute, a.k.a., the following two aliases: —31st Institute; and —Beijing Power Machinery Institute. No. 17, Yungang West Road, Fengtai District, Beijing | For all items subject to the EAR | See § 744.3(d) of this part | 66 FR 24266, 5/14/01. 75 FR 78877, 12/17/10. 84 FR [INSERT FR PAGE NUMBER, 8/14/19.
| China Aerospace Science and Industry Corporation (CASIC) 3rd Academy, 33 Research Institute, a.k.a., the following two aliases: —33rd Institute; and —Beijing Automation Control Equipment Institute (BACEI) No. 1, Yungang Beili, Fengtai District, Beijing 100074 | For all items subject to the EAR | See § 744.3(d) of this part | 66 FR 24266, 5/14/01. 75 FR 78883, 12/17/10. 77 FR 58006, 9/19/12. 81 FR 64696, 9/20/16. 84 FR [INSERT FR PAGE NUMBER, 8/14/19.
| China Aerospace Science and Industry Corporation (CASIC) 3rd Academy, 35 Research Institute, a.k.a, the following two aliases: —35th Institute; and —Huahang Institute of Radio Measurement No. 3 South Street, Hepingli East Road, Dongcheng, Beijing, 100013 | For all items subject to the EAR | See § 744.3(d) of this part | 66 FR 24266, 5/14/01. 75 FR 78883, 12/17/10. 77 FR 58006, 9/19/12. 81 FR 64696, 9/20/16. 84 FR [INSERT FR PAGE NUMBER, 8/14/19.
| * * * * * *
| China Aerospace Science and Technology Corporation (CASC) 1st Academy 12 Research Institute, a.k.a., the following two aliases: —Beijing Aerospace Automatic Control Institute (BICD); and —12th Institute 51 Yong Ding Road, Beijing; and No. 50 Yongding Road, Haidian District, Beijing 100854 | For all items subject to the EAR | See § 744.3 of this part | 64 FR 28909, 5/28/99. 75 FR 78883, 12/17/10. 77 FR 58006, 9/19/12. 81 FR 64696, 9/20/16. 84 FR [INSERT FR PAGE NUMBER, 8/14/19.
| China Aerospace Science and Technology Corporation (CASC) 1st Academy 702 Research Institute, a.k.a., the following two aliases: —702nd Institute; and —Beijing Institute of Structure and Environmental Engineering (BISE) No. 30 Wanyuan Road, Beijing | For all items subject to the EAR | See § 744.3 of this part | 64 FR 28909, 5/28/99. 75 FR 78877, 12/17/10. 81 FR 64696, 9/20/16. 84 FR [INSERT FR PAGE NUMBER, 8/14/19.
| China Aerospace Science and Technology Corporation (CASC) 1st Academy First Design Department, a.k.a., the following one alias: —1st General Design Department 1 South Dahongmen Road, Fengtai District, Beijing 100076 | For all items subject to the EAR | See § 744.3(d) of this part | 66 FR 24266, 5/14/01. 75 FR 78883, 12/17/10. 77 FR 58006, 9/19/12. 84 FR [INSERT FR PAGE NUMBER, 8/14/19.
| China Aerospace Science and Technology Corporation (CASC) 8th Academy, and the following three aliases: —Shanghai Academy of Spaceflight Technology (SAST); —Shanghai Institute of Space; and —MOA#8 Academy Shanghai Spaceflight Tower, 222 Cao Xi Road, Shanghai, 200233; and No. 3888 Yuanjiang Road, Minhang District, Shanghai 201109; and No. 2965 Dongchuan Rd Minhang District Shanghai, China | For all items subject to the EAR | See § 744.3 of this part | 64 FR 28909, 5/28/99. 75 FR 78877, 12/17/10. 81 FR 64696, 9/20/16. 84 FR [INSERT FR PAGE NUMBER, 8/14/19.
| China Aerospace Science and Technology Corporation (CASC) 8th Academy 811 Research Institute, and the following two aliases: —811th Institute; and —Shanghai Institute of Space Power Sources 388 Cang Wu Road, Shanghai; and 2965 Dongchuan Road, Minhang District, Shanghai 200245 | For all items subject to the EAR | See § 744.3 of this part | 64 FR 28909, 5/28/99. 75 FR 78883, 12/17/10. 77 FR 58006, 9/19/12. 81 FR 64696, 9/20/16. 84 FR [INSERT FR PAGE NUMBER, 8/14/19.
| China Aerospace Science and Technology Corporation (CASC) 9th Academy 13 Research Institute, a.k.a., the following four aliases: —13th Institute; —Beijing Institute of Aerospace Control Devices (BIACD); —230 Factory; and —Beijing Aerospace Times Optical-Electronic Technology Co., Ltd No. 1 Fengying East Road, Haidian District, Beijing 100094 | For all items subject to the EAR | See § 744.3(d) of this part | 66 FR 24265, 5/14/01. 75 FR 78877, 12/17/10. 84 FR [INSERT FR PAGE NUMBER, 8/14/19.
| * * * * * *
| China General Nuclear Power Corporation (CGNPC), a.k.a., the following one alias: —China Guangdong Nuclear Power Corporation South Building, CGN Tower, 2002 Shennan Boulevard, Futian District, Shenzhen, Guangdong Province, China; and 1001 Shangbuzhong Road, Shenzhen Sci & Tech Building, Shenzhen, China | For all items subject to the EAR. (See § 744.11 of the EAR.) | Presumption of denial | 84 FR [INSERT FR PAGE NUMBER, 8/14/19.
| China General Nuclear Power Group, South Building, CGN Tower, 2002 Shennan Boulevard, Futian District, Shenzhen, Guangdong Province, China | For all items subject to the EAR. (See § 744.11 of the EAR.) | Presumption of denial | 84 FR [INSERT FR PAGE NUMBER, 8/14/19.
| China Nuclear Power Technology Research Institute Co. Ltd., 47 F/A Jiangsu Building, Yitian Road, Futian District, Shenzhen, 518026, China | For all items subject to the EAR. (See § 744.11 of the EAR.) | Presumption of denial | 84 FR [INSERT FR PAGE NUMBER, 8/14/19.
| * * * * * *
| Edward Fan, Hucun, Huafeng Town, Ningyang County, Tai'an City, Shandong Province, China | For all items subject to the EAR. (See § 744.11 of the EAR) | Presumption of denial | 81 FR 14958, 3/21/16. 84 FR [INSERT FR PAGE NUMBER, 8/14/19.
| * * * * * *
| Northwestern Polytechnical University, a.k.a., the following three aliases: —Northwestern Polytechnic University; —Northwest Polytechnic University; and —Northwest Polytechnical University. 127 Yonyi Xilu, Xi'an 71002 Shaanxi, China; and Youyi Xi Lu, Xi'an, Shaanxi, China; and No. 1 Bianjia Cun, Xi'an; and West Friendship Rd. 59, Xi'an; and 3 10 W Apt 3, Xi'an | For all items subject to the EAR. (See § 744.11 of the EAR) | Presumption of denial | 66 FR 24266, 5/14/01. 75 FR 78883, 12/17/10. 77 FR 58006, 9/19/12. 81 FR 64696, 9/20/16. 84 FR [INSERT FR PAGE NUMBER, 8/14/19.
| * * * * * *
| Sharon Yang, No. 96 Haining Road, Zhifu District, Yantai City, Shandong Province, China | For all items subject to the EAR. (See § 744.11 of the EAR) | Presumption of denial | 81 FR 14958, 3/21/16. 84 FR [INSERT FR PAGE NUMBER, 8/14/19.
| * * * * * *
| Suzhou Nuclear Power Research Institute Co. Ltd., 1788 Xihuan Road, Suzhou, 215000, China | For all items subject to the EAR. (See § 744.11 of the EAR.) | Presumption of denial | 84 FR [INSERT FR PAGE NUMBER, 8/14/19.
| * * * * * *
| TanWei, a.k.a., the following one alias: —Terry Tan No. 288, Fuhai Road, Fushan District, Yantai City, Shandong Province, China | For all items subject to the EAR. (See § 744.11 of the EAR) | Presumption of denial | 81 FR 14958, 3/21/16. 84 FR [INSERT FR PAGE NUMBER, 8/14/19.
| * * * * * *
* * * * * * *
GEORGIA | Georgia Petrochemical and Aviatech, No. 35 Bldg. V Moscow Avenue, Tbilisi, Georgia | For all items subject to the EAR. (See § 744.11 of the EAR.) | Presumption of denial | 84 FR [INSERT FR PAGE NUMBER, 8/14/19].
| * * * * * *
* * * * * * *
HONG KONG | * * * * * *
| Calvin Law, Flat 2808, 28/F, Asia Trade Centre, 79 Lei Muk Road, Kwai Chung, N.T., Hong Kong; and Units 801-803 and 805, Park Sun Building, No. 97-107 Wo Yi Hop Road, Kwai Chung, N.T., Hong Kong | For all items subject to the EAR. (See § 744.11 of the EAR) | Presumption of denial | 83 FR 44824, 9/4/18. 84 FR [INSERT FR PAGE NUMBER, 8/14/19.
| * * * * * *
| CLC Holdings Limited, a.k.a., the following one alias: —CLC Xpress Flat 2808, 28/F, Asia Trade Centre, 79 Lei Muk Road, Kwai Chung, N.T., Hong Kong; and Units 801-803 and 805, Park Sun Building, No. 97-107 Wo Yi Hop Road, Kwai Chung, N.T., Hong Kong | For all items subject to the EAR. (See § 744.11 of the EAR) | Presumption of denial | 83 FR 44824, 9/4/18. 84 FR [INSERT FR PAGE NUMBER, 8/14/19.
| * * * * * *
| Corad Technology Limited, a.k.a., the following one alias: —Corad Technology (China) Limited Unit 1306, 13/F, Nanyang Plaza 57 Hung To Road Kwun Tong, Hong Kong; and Room K, 5/F, Winner Factory Building No. 55 Hung To Road Kwun Tong Kowloon, Hong Kong | For all items subject to the EAR. (See § 744.11 of the EAR.) | Presumption of denial | 84 FR [INSERT FR PAGE NUMBER, 8/14/19.
| * * * * * *
| LHI Technology (H.K.) Company Limited, Units 801-803 and 805, Park Sun Building, No. 97-107 Wo Yi Hop Road, Kwai Chung, N.T., Hong Kong | For all items subject to the EAR. (See § 744.11 of the EAR) | Presumption of denial | 83 FR 44824, 9/4/18. 84 FR [INSERT FR PAGE NUMBER, 8/14/19.
| * * * * * *
| ZM International Company Ltd., 4/F Enterprise Bldg 228-238, Queen's Road Central, Hong Kong; and Room C, 22/F, 235 Wing Lok Street, Trade Centre, Sheung Wan, N.T., Hong Kong | For all items subject to the EAR. (See § 744.11 of the EAR) | Presumption of denial | 83 FR 44824, 9/4/18. 83 FR 44824, 9/4/18. 84 FR [INSERT FR PAGE NUMBER, 8/14/19.
MALAYSIA | * * * * * *
| NBH Industries, No. 154, Persiaran Raja Muda, Klang Selangor, Malaysia | For all items subject to the EAR. (See § 744.11 of the EAR) | Presumption of denial | 83 FR 44824, 9/4/18. 83 FR 44824, 9/4/18. 84 FR [INSERT FR PAGE NUMBER, 8/14/19.
| * * * * * *
* * * * * * *
NETHERLANDS | * * * * * *
| Nicolas Kaiga, a.k.a., the following one alias: —Nicholas Kaiga 32 Disneystrook, 2726CT Zoetemeer, Netherlands. (See alternate addresses under Belgium and United Kingdom) | For all items subject to the EAR. (See § 744.11 of the EAR.) | Presumption of denial | 84 FR [INSERT FR PAGE NUMBER, 8/14/19.
* * * * * * *
Russia | * * * * * *
| Joint Stock Company Kaluga Scientific Research Institute of Radio Engineering (KNIRTI), 2 Lenina Street, Zhukov, Zhukovski Region, Kaluzhskaya Oblast, Russian Federation, 249190 | For all items subject to the EAR. (See § 744.11 of the EAR.) | Presumption of denial | 84 FR [INSERT FR PAGE NUMBER, 8/14/19.
| * * * * * *
| Limited Liability Company Concord Management and Consulting, a.k.a. the following three aliases: —Konkord Menedzhment I Konsalting, OOO; —LLC Concord Management and Consulting; and —Obshchestvo S Ogrannichennoi Otvetstvennostyu Konkord Menedzhment I Konsalting d. 13 Litera A, Pom. 2-N N4, Naberezhnaya Reki Fontanki, St. Petersburg 191011, Russia | For all items subject to the EAR. (See § 744.11 of the EAR.) | Presumption of denial | 82 FR 28408, 6/22/17. 84 FR [INSERT FR PAGE NUMBER, 8/14/19.
| * * * * * *
| Obninsk Research and Production Enterprise (ORPE), a.k.a., the following three aliases: —ORPE Technologiya; —ONPP Technologiya; and—Obninsk Composite Materials Plant Kievskoe Shosse 15, Obninsk, 249031, Russia | For all items subject to the EAR. (See § 744.11 of the EAR.) | Presumption of denial | 83 FR 48534, 9/26/18. 84 FR [INSERT FR PAGE NUMBER, 8/14/19.
| * * * * * *
* * * * * * *
UNITED ARAB EMIRATES | * * * * * *
| Al Merikh General Trading, Suite #203, Bani Yas Tower Dubai, UAE; and P.O. Box 3559, Dubai, U.A.E. | For all items subject to the EAR. (See § 744.11 of the EAR.) | Presumption of denial | 84 FR [INSERT FR PAGE NUMBER, 8/14/19.
| * * * * * *
| Emirates Alloys, a.k.a., the following two aliases: —Emirates Alloys General Trading LLC; and —Emirates Aero No. 101 Marwan Ahmed Ali Building, Port Saeed Road, P.O. Box 183799, Dubai, U.A.E.; and No. 104b Sh Maryam Palace, Deira, Dubai U.A.E. | For all items subject to the EAR. (See § 744.11 of the EAR.) | Presumption of denial | 84 FR [INSERT FR PAGE NUMBER, 8/14/19.
| * * * * * *
| Saeed Valadbaigi, a.k.a., the following two aliases: —Saeed Valad; and —Saeed Baigi. No. 101 Marwan Ahmed Ali Building, Port Saeed Road, P.O. Box 183799, Dubai, U.A.E.; and No. 104b Sh Maryam Palace, Deira, Dubai U.A.E. | For all items subject to the EAR. (See § 744.11 of the EAR.) | Presumption of denial | 84 FR [INSERT FR PAGE NUMBER, 8/14/19.
| * * * * * *
| Super Alloys, No. 101 Marwan Ahmed Ali Building, Port Saeed Road, P.O. Box 183799, Dubai, U.A.E.; and No. 104b Sh Maryam Palace, Deira, Dubai U.A.E. | For all items subject to the EAR. (See § 744.11 of the EAR.) | Presumption of denial | 84 FR [INSERT FR PAGE NUMBER, 8/14/19.
| * * * * * *
UNITED KINGDOM | * * * * * *
| Nicolas Kaiga, a.k.a., the following one alias: —Nicholas Kaiga Flat #6, Philibeach Gardens, Kensington Chelsea, London, United Kingdom. (See alternate addresses under Belgium and Netherlands) | For all items subject to the EAR. (See § 744.11 of the EAR.) | Presumption of denial | 84 FR [INSERT FR PAGE NUMBER, 8/14/19.
| * * * * * *
* * * * * * *

Dated: August 7, 2019.
Matthew S. Borman,
Deputy Assistant Secretary for Export Administration.

[FR Doc. 2019-17409 Filed 8-13-19; 8:45 am]

BILLING CODE 3510-33-P